FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 31, 2011.

A. Federal Reserve Bank of Chicago (Colette A. Fried, Assistant Vice President) 230 South LaSalle Street, Chicago, Illinois 60690-1414:

1. Ralph C. Stayer and Shelly A. Stayer, and the RFS 2010 Irrevocable Trust F/B/O Ralph C. Stayer, all of Naples, Florida; to acquire voting shares of Hometown Bancorp, Ltd., and thereby indirectly acquire control of Hometown Bank, both of Fond du Lac, Wisconsin.

B. Federal Reserve Bank of St. Louis (Glenda Wilson, Community Affairs Officer) P.O. Box 442, St. Louis, Missouri 63166-2034:

1. The Greenwood Childrens' Trust, Brentwood, Tennessee, with Jane Allison Crewse, Brentwood, Tennessee; Ann Greenwood Watson, Owensboro, Kentucky; Helen Virginia Futvoye, Jackson, Mississippi; and William Lawton Greenwood, Columbia, South Carolina, as trustees; to retain control of First United, Inc., and thereby indirectly retain control of First National Bank of Muhlenberg County, Kentucky, both of Central City, Kentucky.

Board of Governors of the Federal Reserve System, March 11, 2011.
Robert deV. Frierson,
Deputy Secretary of the Board.

[FR Doc. 2011-6108 Filed 3-15-11; 8:45 am]

BILLING CODE 6210-01-P